NATIONAL SCIENCE FOUNDATION

National Science Board; Sunshine Act Meetings; Notice

The National Science Board's Subcommittee on Facilities, Committee on Strategy and Budget, pursuant to NSF regulations (45 CFR Part 614), the National Science Foundation Act, as amended (42 U.S.C. 1862n-5), and the Government in the Sunshine Act (5 U.S.C. 552b), hereby gives notice in regard to the scheduling of meetings for the transaction of National Science Board business and other matters specified, as follows:

Date and Time: Tuesday, April 13, 2010 at 11 a.m.

Subject Matter: Discussion of Draft Report, Planning for May 2010 Meeting.

Status: Open.

This meeting will be held by teleconference originating at the National Science Board Office, National Science Foundation, 4201 Wilson Blvd., Arlington, VA 22230. Stafford II Room 515 will be available to the public to listen to this teleconference meeting. All visitors must contact the Board Office at least one day prior to the meeting to arrange for a visitor's badge. Call 703-292-7000 to request your badge, which will be ready for pick-up at the visitors desk on the day of the meeting. All visitors must report to the NSF visitor desk at the 9th and N. Stuart Streets entrance to receive their visitor's badge the day of the teleconference.

Please refer to the National Science Board Web site (http://www.nsf.gov/nsb) for information or schedule updates, or contact: Elizabeth Strickland, National Science Foundation, 4201 Wilson Blvd., Arlington, VA 22230. Telephone: (703) 292-7000.

Dated: April 5, 2010.
Suzanne H. Plimpton,
Management Analyst, National Science Foundation.

[FR Doc. 2010-8011 Filed 4-5-10; 4:15 pm]

BILLING CODE 7555-01-P